DEPARTMENT OF ENERGY

Federal Energy Regulatory Commission

Combined Notice of Filings

Take notice that the Commission has received the following Natural Gas Pipeline Rate and Refund Report filings:

Filings Instituting Proceedings

Docket Numbers: RP15-239-000.

Applicants: Transcontinental Gas Pipe Line Company.

Description: § 4(d) rate filing per 154.403: S-2 Tracker Effective 2014-12-01 to be effective 12/1/2014.

Filed Date: 12/3/14.

Accession Number: 20141203-5134.

Comments Due: 5 p.m. ET 12/15/14.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP14-952-002.

Applicants: Destin Pipeline Company, L.L.C.

Description: Compliance filing per 154.203: Show Cause Order Amended to be effective 10/16/2014.

Filed Date: 11/26/14.

Accession Number: 20141126-5062.

Comments Due: 5 p.m. ET 12/8/14.

Docket Numbers: RP14-1077-001.

Applicants: Chandeleur Pipe Line, LLC.

Description: Compliance filing per 154.203: Chandeleur Section 8.7.7 Order Effective Date to be effective 10/16/2014.

Filed Date: 12/3/14.

Accession Number: 20141203-5204.

Comments Due: 5 p.m. ET 12/15/14.

Docket Numbers: RP14-942-001.

Applicants: Sabine Pipe Line LLC.

Description: Compliance filing per 154.203: Sabine Section 7.10 Order Effective Date to be effective 10/16/2014.

Filed Date: 12/3/14.

Accession Number: 20141203-5206.

Comments Due: 5 p.m. ET 12/15/14.

Docket Numbers: RP15-122-001.

Applicants: Texas Eastern Transmission, LP.

Description: Compliance filing per 154.203: Errata Filing for TETLP 2014 ASA Filing Docket RP15-122-000 to be effective 12/1/2014.

Filed Date: 12/3/14.

Accession Number: 20141203-5002.

Comments Due: 5 p.m. ET 12/15/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 4, 2014.
Nathaniel J. Davis, Sr.,
Deputy Secretary.

[FR Doc. 2014-28947 Filed 12-9-14; 8:45 am]

BILLING CODE 6717-01-P